NATIONAL COUNCIL ON DISABILITY

Sunshine Act Meetings

TIME AND DATE: The Members of the National Council on Disability (NCD) will meet by phone on Thursday, August 22, 2019, 11:00 a.m.-1:00 p.m., ET.

PLACE: The meeting will occur by phone. Interested parties may join the meeting via phone in a listening-only capacity using the following call-in information: Call-in number: 800-353-6461; Passcode: 8134951; Host Name: Neil Romano. The phone line will open for Public Comment at 12:15 p.m.

MATTERS TO BE CONSIDERED: The Council will conduct a business meeting followed by public comment.

Agenda: The times provided below are approximations for when each agenda item is anticipated to be discussed (all times Eastern):

Thursday, August 22

11:00 a.m.-11:15 a.m.—Welcome and Introductions, Acceptance of Agenda, Approval of Minutes

11:15 a.m.-12:15 p.m.—Executive Reports

12:15 p.m.-12:45 p.m.—Public Comment

12:45 p.m.-1:00 p.m.—Unfinished Business

1:00 p.m.—Adjourn

Public Comment: To better facilitate NCD's public comment, any individual interested in providing public comment is asked to register his or her intent to provide comment in advance by sending an email to PublicComment@ncd.gov with the subject line “Public Comment” with your name, organization, state, and topic of comment included in the body of your email. Full-length written public comments may also be sent to that email address. Please register for public comment at the quarterly meeting by the close of business, Wednesday, August 21, 2019. Commenters on the phone will be called on per the list of those registered via email. Due to time constraints, each person will be given three minutes to present comment. If you are presenting as a group and prefer to choose a spokesperson, your representative will be given six minutes to provide comment. To ensure your comments are accurately reflected and become part of the public record, submission prior to the meeting or immediately after to PublicComment@ncd.gov is requested.

CONTACT PERSON FOR MORE INFORMATION: Anne Sommers, NCD, 1331 F Street NW, Suite 850, Washington, DC 20004; 202-272-2004 (V), 202-272-2074 (TTY).

Accommodations: A CART streamtext link has been arranged for this meeting. The web link to access CART on Thursday, August 22, 2019 is: http://www.streamtext.net/player?event=NCD.

Dated: August 7, 2019.
Sharon M. Lisa Grubb,
Executive Director.

[FR Doc. 2019-17253 Filed 8-8-19; 11:15 am]

BILLING CODE 8421-02-P